FEDERAL MARITIME COMMISSION

Ocean Transportation Intermediary License Reissuances

The Commission gives notice that the following Ocean Transportation Intermediary licenses have been reissued pursuant to section 19 of the Shipping Act of 1984 (46 U.S.C. 40101).

License No.: 003977N.

Name: A Active Freezone Cargo, Inc.

Address: 2315 NW 107th Avenue, Suite 1M2, Box #55, Miami, FL 33172.

Date Reissued: September 1, 2012.

License No.: 017864N.

Name: Navivan Corp.

Address: 200 Crofton Road, Suite 2, Bldg., 10-B, Kenner, LA 70062.

Date Reissued: August 15, 2012.

License No.: 020088N.

Name: Hal-Mari International Logistics, Inc.

Address: 9122 Telephone Road, Houston, TX 77075.

Date Reissued: September 6, 2012.

License No.: 018156N.

Name: Cargo Alliance Inc.

Address: 583 Monterey Pass Road, Suite C, Monterey Park, CA 91754.

Date Reissued: September 5, 2012.

License No.: 019372F.

Name: Hal-Mari International Logistics, Inc.

Address: 9122 Telephone Road, Houston, TX 77075.

Date Reissued: September 6, 2012.

License No.: 023500N.

Name: IMAC International Corp.

Address: 527 Albert Street, East Meadow, NY 11554.

Date Reissued: September 10, 2012.

James A. Nussbaumer,
Deputy Director, Bureau of Certification and Licensing.

[FR Doc. 2012-26225 Filed 10-23-12; 8:45 am]

BILLING CODE 6730-01-P